DEPARTMENT OF ENERGY

Federal Energy Regulatory Commission

[Docket No. RP04-97-000]

Equitrans, LP; Notice of Technical Conference

January 16, 2004.

In its Order issued December 31, 2003,¹ the Commission directed that a technical conference be held to discuss Equitrans, L.P's., proposals in regards to segmentation, gas quality, storage ratchet, security tracker and other changes to the terms and conditions of service.

¹ Equitrans, L.P., 105 FERC ¶ 61,407 (20

Take notice that a technical conference will be held on Monday February 2, 2004, at 10 a.m., in a room to be designated at the Federal Energy Regulatory Commission, 888 First Street, NE., Washington, DC 20426.

All interested parties and staff are permitted to attend. For further information please contact: Christy Walsh at (202) 502-6523.

Linda Mitry,
Acting Secretary.

[FR Doc. E4-112 Filed 01-23-04; 8:45 am]

BILLING CODE 6717-01-P